DEPARTMENT OF THE INTERIOR

Bureau of Reclamation

Humboldt Project Conveyance, Pershing and Lander Counties, NV

AGENCY: Bureau of Reclamation, Interior.

ACTION: Notice of public scoping meetings for the environmental impact statement.

SUMMARY: The Bureau of Reclamation (Reclamation) published a Notice of Intent on February 26, 2003, to prepare a draft environmental impact statement (DEIS) for the Humboldt Project Conveyance (FR 68 8924). Reclamation will be conducting two public scoping meetings to elicit comments on the scope and issues to be addressed in the DEIS. The DEIS is expected to be issued in the fall of 2004.

DATES: Two public scoping meetings will be held:

• Wednesday, February 18, 2004, 7-9 p.m. in Battle Mountain, Nevada.

• Thursday, February 19, 2004, 7-9 p.m. in Reno, Nevada.

Written comments on the scope of alternatives and impacts to be considered should be sent to Reclamation at the address below by March 22, 2004.

ADDRESSES: The scoping meetings will be held at:

• Battle Mountain, Nevada, at the Battle Mountain Civic Center at 6255 Broad Street.

• Reno, Nevada, at the Washoe County Bartley Ranch Park at 6000 Bartley Ranch Road.

Written comments on the scope of the proposed action should be sent to Caryn Huntt DeCarlo, Bureau of Reclamation, Lahontan Basin Area Office, 705 N Plaza, Room 320, Carson City, NV 89701; or by telephone at (775) 884-8352; or faxed to (775) 882-7592 (TDD 775-487-5933).

FOR FURTHER INFORMATION CONTACT: Caryn Huntt DeCarlo, Bureau of Reclamation, at the above address and telephone number.

SUPPLEMENTARY INFORMATION: The Humboldt Project (Project) is located along the Humboldt River in northwestern Nevada. Project features include Battle Mountain Community Pasture, Rye Patch Dam and Reservoir, and the Humboldt Sink. Reclamation is preparing a DEIS to analyze the action of conveying title of the Humboldt Project and associated lands to several entities. The conveyance is authorized under Title VIII of Public Law 107-282.

Our practice is to make comments, including names and home addresses of respondents, available for public review. Individual respondents may request that we withhold their home address from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: December 17, 2003.
Frank Michny,
Regional Environmental Officer, Mid-Pacific Region.

[FR Doc. 04-778 Filed 1-13-04; 8:45 am]

BILLING CODE 4310-MN-P